NUCLEAR REGULATORY COMMISSION

[Docket No. 50-346]

FirstEnergy Nuclear Operating Company; Notice of Consideration of Issuance of Amendment to Facility Operating License, Proposed No Significant Hazards Consideration Determination, and Opportunity for a Hearing; Correction

AGENCY: Nuclear Regulatory Commission.

ACTION: Notice of Consideration of Issuance of Amendment to Facility Operating License, Proposed No Significant Hazards Consideration Determination, and Opportunity for a Hearing; Correction.

SUMMARY: This document corrects a notice appearing in the Federal Register on February 22, 2010 (75 FR 7628), which incorrectly stated a docket number. This action is necessary to correct the docket number.

FOR FURTHER INFORMATION CONTACT: Michael Mahoney, Office of Nuclear Reactor Regulation, U.S. Nuclear Regulatory Commission, Washington, DC 20555-0001; telephone (301) 415-3867, e-mail michael.mahoney@nrc.gov.

SUPPLEMENTARY INFORMATION: On page 7628, in the 3rd column under Nuclear Regulatory Commission, first line, it is corrected to read from “Docket No. 50-341” to “Docket No. 50-346.”

Dated in Rockville, Maryland, this 5th day of March 2010.
For the Nuclear Regulatory Commission.
Michael Mahoney,
Project Manager, Plant Licensing Branch III-2, Division of Operating Reactor Licensing, Office of Nuclear Reactor Regulation.

[FR Doc. 2010-5559 Filed 3-12-10; 8:45 am]

BILLING CODE 7590-01-P